ENVIRONMENTAL PROTECTION AGENCY

[Docket ID Number EPA-HQ-OECA-2012-0034; FRL-9629-1]

Agency Information Collection Activities: Request for Comments on One Proposed Information Collection Request (ICR)

AGENCY: Environmental Protection Agency (EPA).

ACTION: Notice.

SUMMARY: In compliance with the Paperwork Reduction Act (44 U.S.C. 3501 et seq.), this document announces that EPA is planning to submit the following one existing, approved, continuing Information Collection Requests (ICR) to the Office of Management and Budget (OMB) for the purpose of renewing the ICR. Before submitting the ICRs to OMB for review and approval, EPA is soliciting comments on specific aspects of the information collections as described under SUPPLEMENTARY INFORMATION.

DATES: Comments must be submitted on or before April 9, 2012.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II.C.

SUPPLEMENTARY INFORMATION:

A. How can I access the docket and/or submit comments?

(1) Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

(2) Instructions for submitting comments:

Submit your comments by one of the following methods:

(a) Electronic Submission: Access http://www.regulations.gov and follow the on-line instructions for submitting comments.

(b) Email: docket.oeca@epa.gov.

(c) Fax: (202) 566-1511.

(d) Mail: Enforcement and Compliance Docket and Information Center (ECDIC), Environmental Protection Agency, EPA Docket Center (EPA/DC), Mail code: 2201T, 1200 Pennsylvania Avenue NW., Washington, DC 20460.

(e) Hand Delivery: Enforcement and Compliance Docket and Information Center (ECDIC), Environmental Protection Agency, EPA Docket Center (EPA/DC), EPA West, Room 3334, 1301 Constitution Avenue NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II.B, and reference the OMB Control Number for the ICR. It is EPA policy that all comments received will be included in the public docket without change and may be made available online at http://www.regulations.gov, including any personal information provided, unless the comment includes information claimed to be Confidential Business Information (CBI) or other information whose disclosure is restricted by statute. Do not submit information that you consider to be CBI or otherwise protected through www.regulations.gov or email. The http://www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about the EPA public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies, or other forms of information technology, e.g., permitting electronic submission of responses.

C. What should I consider when I prepare my comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

II. ICR To Be Renewed

A. For One ICR

The Agency computed the burden for each of the recordkeeping and reporting requirements applicable to the industry for the currently approved ICR listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICR addresses Clean Air Act information collection requirements in standards (i.e., regulations) which have mandatory recordkeeping and reporting requirements. Records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An agency may not conduct or sponsor, and a person is not required to respond to, a collection of information, unless the Agency displays a currently valid OMB control number. The OMB control numbers for the EPA regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit one proposed, continuing Information Collection Request (ICR) to the Office of Management and Budget (OMB):

(1) Docket ID Number: EPA-HQ-OECA-2012-0034.

Title: NESHAP for Nine Metal Fabrication and Finishing Source Categories (40 CFR part 63, subpart XXXXXX).

ICR Numbers: EPA ICR Number 2298.03, OMB Control Number 2060-0613.

ICR Status: This ICR is scheduled to expire on January 31, 2012.

C. Contact Individual for ICR

(1) NESHAP for Nine Metal Fabrication and Finishing Source Categories (40 CFR part 63, subpart XXXXXX); Learia Williams of the Office of Compliance (202) 564-4113 or via email to williams.learia@epa.gov; EPA ICR Number 2298.03, OMB Control Number 2060-0613; expiration date January 31, 2012.

D. Information for Individual ICRs

(1) NESHAP for Nine Metal Fabrication and Finishing Source Categories (40 CFR part 63, subpart XXXXXX), Docket ID Number: EPA-HQ-OECA-2012-0034, EPA ICR Number 2298.03, OMB Control Number 2060-0613, expiration date January 31, 2012.

Affected Entities: Entities potentially affected by this action are the owners or operators of metal fabrication and finishing facilities.

Abstract: The affected entities are subject to the General Provisions of the NESHAP at 40 CFR part 63, subpart A, and any changes, or additions to the General Provisions specified at 40 CFR part 63, subpart XXXXXX.

Owners or operators of the affected facilities must submit initial notification, performance tests, periodic reports, and results. Owners or operators are also required to maintain records of the occurrence and duration of any startup, shutdown, or malfunction in the operation of an affected facility, or any period during which the monitoring system is inoperative. Reports, at a minimum, are required annually.

Burden Statement: The annual public reporting and recordkeeping burden for this collection of information is estimated to average 11 hours per response.

Respondents/Affected Entities: Owners or operators of metal fabrication and finishing facilities.

Estimated Number of Respondents: 1,933.

Frequency of Response: Initially, and annually.

Estimated Total Annual Hour Burden: 20,566.

Estimated Total Annual Cost: $655,501, which includes $655,501 in labor costs, no capital/startup costs, and no operating and maintenance costs.

EPA will consider any comments received and may amend the above ICR, as appropriate. Then, the final ICR package will be submitted to OMB for review and approval pursuant to 5 CFR 1320.12. At that time, EPA will issue one or more Federal Register notices pursuant to 5 CFR 1320.5(a)(1)(iv) to announce the submission of the ICR to OMB, and the opportunity to submit additional comments to OMB. If you have any question about the above ICR or the approval process, please contact the person listed under FOR FURTHER INFORMATION CONTACT.

Dated: January 25, 2012.
Lisa C. Lund,
Director, Office of Compliance.

[FR Doc. 2012-2881 Filed 2-7-12; 8:45 am]

BILLING CODE 6560-50-P